DEPARTMENT OF HOUSING AND URBAN DEVELOPMENT

[Docket No. FR-4980-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homelesss Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available for suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COMMERCE: Mr. Lance Feiner, Office of Real Estate, 14th & Constitution Avenue, NW., Room 1036, Washington, DC 20230; (202) 482-3580; COAST GUARD: Commandant (G-SEC), United States Coast Guard, Attn: Teresa Sheinberg, 2100 Second St., SW., Rm. 6109, Washington, DC 20593-0001; (202) 267-6142; ENERGY: Mr. Andy Duran, Department of Energy, Office of Engineering & Construction Management, ME-90, 1000 Independence Ave., SW., Washington, DC 20585; (202) 586-4548; GSA: Mr. Brian K. Polly, Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 219-0728; NAVY: Mr. Charles C. Cocks, Department of the Navy, Real Estate Policy Division, Naval Facilities Engineering Command, Washington Navy Yard, 1322 Patterson Ave., SE., Suite 1000, Washington, DC 20374-5065; (202) 685-9200; (These are not toll-free numbers).

Dated: March 10, 2005.
Mark R. Johnston,
Director, Office of Special Needs Assistance Programs.

Title V, Federal Surplus Property Program Federal Register Report For 3/18/2005

Suitable/Available Properties

Buildings (by State)

Illinois

SSA Building

2628 N. Knoxville

Peoria Co: IL 61604-

Landholding Agency: GSA

Property Number: 54200510011

Status: Excess

Comment: 9154 sq. ft., most recent use—office

GSA Number: 1-G-IL-731

New Hampshire

Bldg. 288

Naval Shipyard

Portsmouth Co: NH 03804-5000

Landholding Agency: Navy

Property Number: 77200510018

Status: Excess

Comment: 3600 sq. ft., presence of asbestos/lead paint, most recent use—ship filters shop, off-site use only

Bldg. 344

Naval Shipyard

Portsmouth Co: NH 03804-5000

Landholding Agency: Navy

Property Number: 77200510019

Status: Excess

Comment: 1406 sq. ft., presence of asbestos/lead paint, most recent use—riggers shop, off-site use only

Bldg. 346

Naval Shipyard

Portsmouth Co: NH 03804-5000

Landholding Agency: Navy

Property Number: 77200510020

Status: Excess

Comment: 545 sq. ft., presence of asbestos/lead paint, most recent use—locker bldg., off-site use only

Bldg. M-17

Naval Shipyard

Portsmouth Co: NH 03804-5000

Landholding Agency: Navy

Property Number: 77200510021

Status: Excess

Comment: 760 sq. ft., presence of asbestos/lead paint, most recent use—garage, off-site use only

North Carolina

Caretaker's Residence

101 Pivers Island Road

Beaufort Co: Carteret NC 28506-

Landholding Agency: Commerce

Property Number: 27200510001

Status: Excess

Comment: 1900 sq. ft., off-site use only

Pennsylvania

SSA Building

200 Ferry Street

Easton Co: Bucks PA 18042-3674

Landholding Agency: GSA

Property Number: 54200510013

Status: Excess

Comment: 5800 sq. ft., most recent use—office

GSA Number: 4-G-PA-0796

Texas

SSA Building

1000 Burnett Street

Wichita Falls Co: TX 76301-

Landholding Agency: GSA

Property Number: 54200510014

Status: Excess

Comment: 6930 sq. ft., most recent use—office

GSA Number: 7-G-TXndash;1086

Wyoming

Naval Reserve Center

4700 Ocean Loop

Cheyenne Co: Laramie WY 82009-5604

Landholding Agency: GSA

Property Number: 54200510015

Status: Surplus

Comment: 11,858 sq. ft., most recent use—training center/offices, subject to existing easements

GSA Number: 7-N-WY-0542

Suitable/Unavailable Properties

Buildings (by State)

Maryland

Social Security Building

688 Easst Main Street

Salisbury Co: MD

Landholding Agency: GSA

Property Number: 54200510016

Status: Surplus

Comment: Republished: 7200 sq. ft., needs repair, most recent use—office

GSA Number: 4-G-MD-618

Land (by State)

Hawaii

Property 111017

Naval Station

890 Valkenburgh Street

Pearl Harbor Co: Honolulu HI 96818-

Landholding Agency: Navy

Property Number: 77200510017

Status: Unutilized

Comment: 5.16 acres

Unsuitable Properties

Buildings (by State)

California

Quarter #90

Sequoia National Park

Three Rivers Co: Tulare CA 93271-

Landholding Agency: Interior

Property Number: 61200510004

Status: Unutilized

Reason: Extensive deterioration

Bryan Park Military Housing

Naval Weapons Station

Concord Co: Contra Costa CA

Landholding Agency: Navy

Property Number: 77200510024

Status: Unutilized

Reason: Within 2000 ft. of flammable or explosive material

Connecticut

Bldg. CT380

Naval Submarine Base

Groton Co: New London CT 06340-

Landholding Agency: Navy

Property Number: 77200510016

Status: Unutilized

Reason: Extensive deterioration

Georgia

Whitesburg Rain Gage Station

Yates Co: Coweta GA 30263-

Landholding Agency: GSA

Property Number: 54200510009

Status: Excess

Reason: Within 2000 ft. of flammable or explosive material

GSA Number: 4-D-GA-0875

Idaho

Bldg. TRA 618

Idaho National Laboratory

Scoville Co: Butte ID 83415-

Landholding Agency: Energy

Status: Excess

Reason: Extensive deterioration

Project Office Bldg.

214 Broadway Avenue

Boise Co: Ada ID 83702-

Landholding Agency: GSA

Property Number: 54200510010

Status: Excess

Reason: Within 2000 ft. of flammable or explosive material

GSA Number: 9-1-ID-556

Illinois

Bldg. 202 “W” Wing

Argonne National Laboratory

Argonne Co: DuPage IL 60439-

Landholding Agency: Energy

Property Number: 41200510001

Status: Excess

Reason: Contamination

Bldg. 128

FERMILAB

Batavia Co: DuPage IL 60510-

Landholding Agency: Energy

Property Number: 41200510002

Status: Excess

Reason: Extensive deterioration

Bldg. 261

FERMILAB

Batavia Co: DuPage IL 60510-

Landholding Agency: Energy

Property Number: 41200510003

Status: Excess

Reason: Extensive deterioration

Michigan

U.S. Coast Guard Station

101 South Lakeshore Drive

Ludington Co: Mason MI 49431-

Landholding Agency: GSA

Property Number: 54200510012

Status: Surplus

Reason: Within 2000 ft. of flammable or explosive material

GSA Number: 1-U-MI-537-D

Admin. Bldg.

Station Saginaw River

Essexville Co: Bay MI 48732-

Landholding Agency: Coast Guard

Property Number: 88200510001

Status: Unutilized

Reasons: Secured Area. Extensive deterioration

Nevada

69 Units

Naval Air Station

Fallon Co: Churchill NV 89496-

Landholding Agency; Navy

Property Number: 77200510022

Status: Underutilized

Reason: Secured Area

New Mexico

Bldg. 99650

Sandia National Laboratory

Albuquerque Co: Bernalillo NM 87185-

Landholding Agency; Energy

Property Number: 41200510004

Status: Unutilized

Reason: Secured Area

North Carolina

Bldg. 124

Marine Corps Air Station

Cherry Point Co: Craven NC 28533-

Landholding Agency: Navy

Property Number: 77200510023

Status: Underutilized

Reason: Secured Area

[FR Doc. 05-5042 Filed 3-17-05; 8:45 am]

BILLING CODE 4210-29-M